DEPARTMENT OF DEFENSE

Department of the Army

Privacy Act of 1974; System of Records

AGENCY: Department of the Army, DoD.

ACTION: Notice to alter a system of records.

SUMMARY: The Department of the Army is proposing to alter an exempt system of records notice in its existing inventory of records systems subject to the Privacy Act of 1974, (5 U.S.C. 552a), as amended.

DATES: Comments must be received on or before September 23, 2005, to be considered by this agency.

ADDRESSES: Department of the Army, Freedom of Information/Privacy Division, U.S. Army Records Management and Declassification Agency, ATTN: AHRC-PDD-FPZ, 7701 Telegraph Road, Casey Building, Suite 144, Alexandria, VA 22315-3905.

FOR FURTHER INFORMATION CONTACT: Ms. Janice Thornton at (703) 428-6503.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on August 16, 2005, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: August 18, 2005.
Jeannette Owings-Ballard,
OSD Federal Register Liaison Officer, Department of Defense.

A0195-2c USACIDC DoD

System name:

DoD Criminal Investigation Task Force (CITF) Files (February 25, 2005, 70 FR 9286).

Changes:

* * * * *

Categories of individuals covered by the system:

Delete entry and replace with “Any individual involved in, or suspected of being involved in, war crimes or acts of terrorism affecting U.S. interests (e.g., property located in or outside of the United States), U.S. nationals, and/or U.S. personnel. Individuals who provide information that is relevant to the investigation, such as victims, witnesses, and those who report such crimes or acts.”

Categories of records in the system:

Add “criminal” before “intelligence reports”.

* * * * *

Routine uses of records maintained in the system, including categories of users and the purposes of such uses:

In the second paragraph, add at the end “or terrorist activities”.

In the third paragraph, delete “for the purpose of collaborating on production of intelligence product and terrorist acts” and replace with “for the purpose of producing intelligence products and preventing or investigating terrorist acts.”

Add a new fourth paragraph “To victims and witnesses of a crime for purposes of providing information, consistent with the requirements of the Victim and Witness Assistance Program, regarding the investigation and disposition of an offense.”

* * * * *

A0195-2c USACIDC DoD

System name:

DoD Criminal Investigation Task Force (CITF) Files

System location:

U.S. Army Criminal Investigation Command, Criminal Investigation Task Force, 6010 6th Street, Fort Belvoir, VA 22060-5506.

Decentralized segments are located at DoD Criminal Investigation Task Force (CITF) field offices and resident offices worldwide. Official mailing addresses are published as an appendix to Army's compilation of system of records notices.

Categories of individuals covered by the system:

Any individual involved in, or suspected of being involved in, war crimes or acts of terrorism affecting U.S. interests (e.g., property located in or outside of the United States), U.S. nationals, and/or U.S. personnel. Individuals who provide information that is relevant to the investigation, such as victims, witnesses, and those who report such crimes or acts.

Categories of records in the system:

Name, Social Security Number, rank, date and place of birth, chronology of events; reports of investigation and criminal intelligence reports containing statements of witnesses, suspects, subject and agents; laboratory reports, polygraph reports, documentary evidence, physical evidence, summary and administrative data pertaining to preparation and distribution of reports; basis for allegations; modus operandi and other investigative information from Federal, State, and local investigative and intelligence agencies and departments; and similar relevant documents; names and personal identifiers of persons who have been subjects of electronic surveillance; agencies, firms, Army and Defense Department organizations which were the subjects or victims of war crimes investigations; and disposition of offenders, witness identification data, and relevant information pertaining to the investigation.

Authority for maintenance of the system:

10 U.S.C. 113, Secretary of Defense; 10 U.S.C. 821, Jurisdiction of Courts Martial not Exclusive, and 836, President May Prescribe Rules; 10 U.S.C. 3013, Secretary of the Army; 10 U.S.C. 5013, Secretary of the Navy; 10 U.S.C. 8013, Secretary of the Air Force; Pub. L. 107-40, Authorization for Use of Military Force Joint Resolution; Military Order of November 13, 2001, Detention, Treatment, and Trial of Certain Non-Citizens in the War Against Terrorism; Army Regulation 195-2, Criminal Investigation Activities; and E.O. 9397 (SSN).

Purpose(s):

To conduct and exercise overall responsibility within the Department of Defense for all matters pertaining to the investigation of alleged war crimes and acts of terrorism committed against U.S. citizens, U.S. property or interests; used in judicial and adjudicative proceedings including litigation or in accordance with a court order; and reporting of statistical data to Department of Defense officials.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information concerning war crimes or acts of terrorism activities are disclosed to Federal, State, local and/or foreign law enforcement agencies in accomplishing and enforcing laws (such as provisions of the Status of Forces Agreements or Treaties), analyzing modus operandi, detecting organized criminal activities, or terrorist activities.

To the Department of State, the Department of Treasury, the Department of Justice, the Federal Bureau of Investigation, the Drug Enforcement Administration, U.S. Customs Service, the Bureau of Alcohol, Tobacco and Firearms, the Central Intelligence Agency, for the purpose of producing intelligence products and preventing or investigating terrorist acts. The distribution of investigative information is based on the Army's evaluation of the requesting agency needs and the relevance of the information to the use for which it is provided.

To victims and witnesses of a crime for purposes of providing information, consistent with the requirements of the Victim and Witness Assistance Program, regarding the investigation and disposition of an offense.

The DoD ‘Blanket Routine Uses’ set forth at the beginning of the Army's compilation of systems of records notices also apply to this system.

Policies and practices for storing, retrieving, accessing, retaining, and disposing of records:

Storage:

Paper records in file folders and on electronic media.

Retrievability:

By individual's name, Social Security Number and date and place of birth.

Safeguards:

Access is limited to designated authorized individuals having official need for the information in the performance of their duties. Buildings employ alarms, security guards, and or rooms are security-controlled areas accessible only to authorized persons. Electronically and optically stored records are maintained in “fail-safe” system software with password-protected access. All records are accessible only to authorized persons with a need-to-know who are properly screened, cleared, and trained.

Retention and disposal:

Disposition pending (until the National Archives and Records Administration has approved retention and disposition of these records, treat as permanent).

System manager(s) and address:

Commander, U.S. Army Criminal Investigation Command, Criminal Investigation Task Force, 6010 6th Street, Fort Belvoir, VA 22060-5506.

Notification procedures:

Individuals seeking access to information about themselves contained in this system should address written inquiries to the U.S. Army Criminal Investigation Command, Criminal Investigation Task Force, 6010 6th Street, Fort Belvoir, VA 22060-5506.

For verification purposes, individuals should provide their full name, date and place of birth, current address, telephone numbers, and signature.

Record access procedures:

Individuals seeking access to information about themselves contained in this system should address written inquiries to the U.S. Army Criminal Investigation Command, Criminal Investigation Task Force, 6010 6th Street, Fort Belvoir, VA 22060-5506.

For verification purposes, individual should provide their full name, date and place of birth, current address, telephone numbers, and signature.

Contesting record procedures:

The Army's rules for accessing records, and for contesting contents and appealing initial agency determination are contained in Army Regulation 340-21; 32 CFR part 505; or may be obtained from the system manager.

Record source categories:

Suspects, witnesses, victims, DoD personnel, informants; various Department of Defense, federal, state, and local investigative agencies; departments or agencies of foreign governments; and any other individual or organization which may supply pertinent information.

Exemption claimed for the system:

Parts of this system may be exempt pursuant to 5 U.S.C. 552a(j)(2) if the information is compiled and maintained by a component of the agency that performs as its principle function any activity pertaining to the enforcement of criminal laws.

An exemption rule for this system has been promulgated in accordance with requirements of 5 U.S.C. 553(b)(1), (2), and (3), (c) and (e) and published in 32 CFR part 505. For additional information contact the system manager.

[FR Doc. 05-16773 Filed 8-23-05; 8:45 am]

BILLING CODE 5001-06-M